DEPARTMENT OF COMMERCE

National Oceanic and Atmospheric Administration

[I.D. 071701B]

Submission for OMB Review; Comment Request

AGENCY: National Oceanic and Atmospheric Administration (NOAA)

SUPPLEMENTARY INFORMATION: The Department of Commerce has submitted to the Office of Management and Budget (OMB) for clearance the following proposal for collection of information under the provisions of the Paperwork Reduction Act (44 U.S.C. Chapter 35).

Title: Southeast Region Logbook Family of Forms.

Form Number(s): None.

OMB Approval Number: 0648-0016.

Type of Request: Regular submission.

Burden Hours: 1,400.

Number of Respondents: 350.

Average Hours Per Response: 10 minutes per trip form, 30 minutes per annual form

Needs and Uses: Participants in the Atlantic snapper-grouper and mackerel fisheries in the Southeast Region are currently required to submit catch and effort logbooks for their fishing trips. The NMFS proposes that fishermen also be required to submit information about dockside prices, trip operating costs, and annual fixed costs. The data will be used in analyses of the economic effects of proposed regulations.

Affected Public: Business and other for-profit organizations.

Frequency: By trip, annual.

Respondent's Obligation: Mandatory.

OMB Desk Officer: David Rostker, (202) 395-3897. Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 13, 2001.
Madeleine Clayton,
Departmental Paperwork Clearance Officer, Office of the Chief Information Officer.

[FR Doc. 01-18204 Filed 7-19-01; 8:45 am]

BILLING CODE 3510-22-S